DEPARTMENT OF JUSTICE

[OMB 1140-0006]

Agency Information Collection Activities; Proposed eCollection eComments Requested; Revision of a Previously Approved Collection Title—Application and Permit To Import Firearms, Ammunition, and Defense Articles

AGENCY: Bureau of Alcohol, Tobacco, Firearms, and Explosives; Department of Justice.

ACTION: 60-Day notice.

SUMMARY: The Bureau of Alcohol, Tobacco, Firearms, and Explosives (ATF) of the Department of Justice, will be submitting the following information collection request to the Office of Management and Budget (OMB) for renewal review and approval in accordance with the Paperwork Reduction Act of 1995.

DATES: Comments are encouraged and will be accepted for 60 days until October 6, 2025.

FOR FURTHER INFORMATION CONTACT: If you have additional comments, especially on the estimated public burden or associated response time, suggestions, or need a copy of the proposed information collection instrument with instructions or additional information, contact: Austin Funk, Firearms and Explosives Import Branch, either by mail at Bureau of Alcohol, Tobacco, Firearms, and Explosives; 244 Needy Road; Martinsburg, WV 25405, by email at Austin.Funk@atf.gov, or by telephone at 304-616-4654.

SUPPLEMENTARY INFORMATION: We encourage written comments and suggestions from the public and affected agencies concerning the proposed information collection. Your comments should address one or more of the following four points:

—Evaluate whether the proposed information collection is necessary to properly perform ATF's functions, including whether the information will have practical utility;

—Evaluate the agency's estimate of the proposed information collection's burden for accuracy, including validity of the methodology and assumptions used;

—Evaluate whether, and if so, how, the quality, utility, and clarity of the collected information can be enhanced; and

—Minimize the information collection's burden on those who are to respond, including using appropriate automated, electronic, mechanical, or other technological collection techniques or other forms of information technology, e.g., permitting people to submit electronic responses.

Abstract: Military members use ATF Form 5330.3B (“Form 6, part II”) to request approval to import articles described on the application back to the U.S. ATF uses the information on Form 6, part II to determine if the article(s) described on the application qualifies to be imported by the person requesting approval and the form then serves as the authorization for them to import the items. ATF is modifying information collection (IC) OMB 1140-0006 to revise the title of the form for improved readability. ATF is also revising the form to add attachment sheets, at the request of users, to make the form more aligned with ATF Form 5330.3A (“Form 6, part I”), as well as make it easier for applicants with large numbers of item types to include in their applications. The attachment sheets include ones for defense articles and ammuition. The form instructions are also being updated to include current statute and regulation citations, some terminology changes (such as changing `articles' to `firearm(s), ammunition, and defense article(s)'), and contact information updates to provide the most efficient methods of contacting the office. The instructions have also been condensed and reworded for clarity. This revision also includes terminology and grammar updates. There are no program changes or adjustments associated with this renewal request. However, the number of respondents has decreased since the last renewal, from 400 down to 312 per year, a decrease of 88. This has also resulted in a decrease in the total hourly burden from 200 to 156 total annual hours.

Overview of This Information Collection

1. Type of information collection: Revision of a previously approved collection.

2. Title of the form/collection: Application and Permit to Import Firearms, Ammunition, and Defense Articles.

3. The agency form number, if any, and the applicable component of the Department sponsoring the collection: Form number: ATF Form 5330.3B (“Form 6, part II”).

Component: Bureau of Alcohol, Tobacco, Firearms, and Explosives; U.S. Department of Justice.

4. Affected public who will be asked or required to respond, as well as the obligation to respond: Affected public: Individuals.

The obligation to respond is voluntary, but mandatory to receive a approval to import.

5. An estimate of the total number of respondents and the amount of time estimated for an average respondent to respond: An estimated 312 respondents will provide information to complete this form once annually, and it will take each respondent approximately 30 minutes to complete their responses.

6. An estimate of the total annual burden (in hours) associated with the collection: The estimated annual public burden associated with this collection is 156 total hours, which is equal to 312 (total respondents) * 1 (# of responses per respondent) * 30 minutes (0.5 hours).

7. An estimate of the total annual cost burden associated with the collection, if applicable: $3,588.

Table—Estimated Annualized Respondent Cost and Hour Burden
Activity | Number of respondents | Frequency | Total annual responses | Time per response (hours) | Total annual burden (hours) | Hourly rate | Monetized value of respondent time
Complete and submit Form 6—Part II | 312 | 1 | 312 | 0.5 | 156 | $23 | $3,588

If you need additional information, contact: Darwin Arceo, Department Clearance Officer; United States Department of Justice; Justice Management Division, Policy and Planning Staff; Two Constitution Square; 145 N Street, NE, 4W-218; Washington, DC.

Dated: July 31, 2025.
Darwin Arceo,
Department Clearance Officer for PRA, U.S. Department of Justice.

[FR Doc. 2025-14776 Filed 8-4-25; 8:45 am]

BILLING CODE 4410-FY-P